DEPARTMENT OF EDUCATION

34 CFR Chapter II

[Docket ID ED-2020-OCTAE-0029]

Proposed Priorities, Requirements, Definition, and Selection Criteria—Perkins Innovation and Modernization Grant Program

AGENCY: Office of Career, Technical, and Adult Education, Department of Education.

ACTION: Proposed priorities, requirements, definition, and selection criteria.

SUMMARY: The Assistant Secretary for Career, Technical, and Adult Education proposes priorities, requirements, a definition, and selection criteria under the Perkins Innovation and Modernization Grant Program, Catalog of Federal Domestic Assistance (CFDA) number 84.051F. The Assistant Secretary may use the priorities, requirements, definition, and selection criteria for competitions in fiscal year (FY) 2020 and later years. We take this action in order to support the identification of strong and well-designed projects that will incorporate evidence-based and innovative strategies and activities to improve and modernize career and technical education (CTE) and better prepare youth and adults for in-demand jobs.

DATES: We must receive your comments on or before October 26, 2020.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

Federal eRulemaking Portal: Go to www.regulations.gov to submit your comments electronically. Information on using Regulations.gov, including instructions for accessing agency documents, submitting comments, and viewing the docket, is available on the site under “How to Use Regulations.gov” in the Help section.

Postal Mail, Commercial Delivery, or Hand Delivery: If you mail or deliver your comments about these proposed regulations, address them to Corinne Sauri, U.S. Department of Education, 400 Maryland Avenue SW, Room 11-110, PCP, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Corinne Sauri, U.S. Department of Education, 400 Maryland Avenue SW, Room 11-110, PCP, Washington, DC 20202. Telephone: (202) 245-6412. Email: PerkinsIandMGrants@ed.gov.

If you use a telecommunications device for the deaf (TDD) or a text telephone (TTY), call the Federal Relay Service (FRS), toll-free, at 1-800-877-8339.

SUPPLEMENTARY INFORMATION:

Invitation to Comment: We invite you to submit comments regarding the proposed priorities, requirements, definition, and selection criteria. To ensure that your comments have maximum effect in developing the final priorities, requirements, definition, and selection criteria, we urge you to identify clearly the specific proposed priority, requirement, definition, or selection criterion your comment addresses.

We invite you to assist us in complying with the specific requirements of Executive Orders 12866, 13563, and 13771 and their overall requirement of reducing regulatory burden that might result from the proposed priorities, requirements, definition, and selection criteria. Please let us know of any further ways we could reduce potential costs or increase potential benefits while preserving the effective and efficient administration of the program.

During and after the comment period, you may inspect all public comments about the proposed priorities, requirements, definition, and selection criteria by accessing Regulations.gov. You may also inspect the comments in person in Room 11-110, PCP, 400 Maryland Avenue SW, Washington, DC, between the hours of 8:30 a.m. and 4:00 p.m., Eastern time, Monday through Friday of each week except Federal holidays. Please contact the person listed under FOR FURTHER INFORMATION CONTACT.

Specific Requests for Comment: The Department is particularly interested in comments on Proposed Priority 4—Serving Students from Low-Income Families. We are interested in feedback about how well this priority would assist in the determination of whether a proposed project would predominantly serve students from low-income families as well as whether the proposed priority would be challenging or burdensome for applicants to meet and, if so, how the proposed priority could be revised. In addition, we invite comment about the appropriateness of the proposed data sources applicants may use to demonstrate that the proposed project will serve students from low-income families.

We are also interested in comments about whether there are important aspects of innovative CTE projects or the likelihood of project success that the proposed selection criteria for the I and M competition do not assess. We are interested in feedback about whether there is ambiguity in the language of the proposed selection criteria that will make it difficult for applicants to respond to the criteria and for peer reviewers to evaluate applications with respect to the selection criteria.

Assistance to Individuals with Disabilities in Reviewing the Rulemaking Record: On request we will provide an appropriate accommodation or auxiliary aid to an individual with a disability who needs assistance to review the comments or other documents in the public rulemaking record for the proposed priorities, requirements, definition, and selection criteria. If you want to schedule an appointment for this type of accommodation or auxiliary aid, please contact the person listed under FOR FURTHER INFORMATION CONTACT.

Purpose of Program: The purpose of the Perkins Innovation and Modernization (Perkins I and M) Grant Program is to identify, support, and rigorously evaluate evidence-based and innovative strategies and activities to improve and modernize CTE, and to ensure workforce skills taught in CTE programs funded under the Carl D. Perkins Career and Technical Education Act of 2006, as amended by the Strengthening Career and Technical Education for the 21st Century Act (Perkins V or the Act), align with labor market needs.

Program Authority: Section 114(e) of Perkins V (20 U.S.C. 2327).

Background: The Perkins Innovation and Modernization (I and M) Grant Program was authorized by amendments to the Carl D. Perkins Career and Technical Education Act that were enacted in 2018 by the Strengthening Career and Technical Education for the 21st Century Act (Pub. L. 115-224). The program's first competition for new awards occurred during 2019 and resulted in nine grant awards. We propose these priorities, requirements, definition, and selection criteria in anticipation of future grant competitions. The proposed priorities, requirements, and definition are based largely on those used in the notice inviting applications (NIA) for the 2019 competition that was published in the Federal Register on April 15, 2019 (84 FR 15193). The proposed selection criteria differ, however, from the criteria we used in the 2019 NIA because they are tailored to the specific requirements of the Perkins I and M Grant Program. The 2019 NIA used the general selection criteria from the Education Department General Administrative Regulations (34 CFR 75.210). However, we propose, for example, to establish a selection criterion that would assess the extent to which the project proposed in an application addresses a regional or local need identified through the comprehensive local needs assessment carried out under section 134(c) of Perkins V. We also propose a selection criterion that focuses on projects that serve students from rural areas. We believe that these and the other proposed selection criteria would help peer reviewers evaluate the quality of Perkins I and M grant applications and identify the strongest proposals to improve and modernize CTE.

Proposed Priorities

This document contains five proposed priorities. We may apply one or more of these priorities for a Perkins I and M grant competition in FY 2020 or in subsequent years.

Proposed Priority 1—Evidence-Based Field-Initiated Innovations

Background: The purpose of the Perkins I and M Grant Program is to test new ideas that can help better prepare students for success in the workforce. Section 114(e)(1) of Perkins V requires the strategies and activities funded under this program to be not only innovative, but also evidence-based, which is defined in Perkins V by adopting the definition of “evidence-based” from the Elementary and Secondary Education Act of 1965, as amended by the Every Student Succeeds Act (ESEA). This definition includes four tiers of evidence that are defined in 34 CFR 77.1 and distinguished from each other by the strength and extent of rigorous research on the effectiveness of an intervention—(1) strong evidence, (2) moderate evidence, (3) promising evidence, or (4) evidence that demonstrates a rationale.

This proposed priority identifies each of these evidence tiers and requires applicants to describe how their proposed project meets one of these tiers. The proposed priority could be used by the Department in a variety of ways in different competitions. It could be used as a competitive preference priority that awards points to applications based on the evidence tiers that they meet. Alternatively, it could be implemented as an absolute priority that requires applicants, in order to be considered for funding, to demonstrate that they meet one or more of the evidence tiers, or even a specific evidence tier. In a given competition, the Secretary would have flexibility to choose one or more evidence tiers for applicants to meet. The 2019 NIA, for example, included an absolute priority for projects that demonstrated a rationale and included a corresponding logic model.

Proposed Priority: Under this priority the Department provides funding to applicants that propose a project for evidence-based field-initiated innovations.

In its application, an applicant must propose to create, develop, implement, replicate, or take to scale evidence-based (as defined in section 8101(21)(A) of the ESEA (20 U.S.C. 6301 et seq.) and adopted by section 3(23) of Perkins V), field-initiated innovations to modernize and to improve effectiveness and alignment of CTE (as defined in section 3 of Perkins V) with labor market needs, and to improve student outcomes in CTE. The application must describe how the proposed project meets one or more of the following evidence tiers:

(a) Strong evidence.

(b) Moderate evidence.

(c) Promising evidence.

(d) Demonstrates a rationale, including the corresponding logic model.

Proposed Priority 2—Promoting STEM Education

Background: We propose a priority that aligns with Priority 6—Promoting Science, Technology, Engineering, or Math (STEM) Education, With a Particular Focus on Computer Science, from the Secretary's Final Supplemental Priorities and Definitions for Discretionary Grant Programs, published in the Federal Register on March 2, 2018 (83 FR 9096) (Supplemental Priorities). Proposed Priority 2 pertains to projects designed to improve student achievement or other education outcomes in STEM. However, as discussed below, we propose a separate priority, Proposed Priority 3, to focus on projects designed to improve student achievement or other education outcomes in computer science.

Preparing secondary and postsecondary CTE students for career opportunities in industries in the STEM sectors, such as advanced manufacturing and health care, is essential to promoting innovation and economic growth. Furthermore, STEM jobs that require less than a bachelor's degree pay higher wages than non-STEM jobs with similar educational requirements.¹ Proposed Priority 2 is designed to support projects that prepare students for, and promote access to, employment opportunities in STEM fields.

¹ Real-Time Insight into the Market for Entry-Level STEM Jobs, Burning Glass Technologies (2014). Retrieved from: www.burning-glass.com/wp-content/uploads/Real-Time-Insight-Into-The-Market-For-Entry-Level-STEM-Jobs.pdf.

Proposed Priority: Projects designed to improve student achievement or other education outcomes in one or more of the following areas: Science, technology, engineering, math. These projects must address one or more of the following priority areas:

(a) Increasing access to STEM coursework and hands-on learning opportunities, such as through expanded course offerings, dual enrollment (as defined in Perkins V), high-quality online coursework, or other innovative delivery mechanisms.

(b) Creating or expanding partnerships between schools, local educational agencies (LEAs), State educational agencies (SEAs), businesses, not-for-profit organizations, or institutions of higher education (IHEs) (as defined in section 101 of the Higher Education Act of 1965, as amended, and section 3(30) of Perkins V) to give students access to internships, apprenticeships, or other work-based learning (as defined in section 3(55) of Perkins V) experiences in STEM fields.

(c) Supporting programs that lead to recognized postsecondary credentials (as defined in section 3 of the Workforce Innovation and Opportunity Act (WIOA) (Pub. L. 113-128, 29 U.S.C. 3102) and section 3(43) of Perkins V) or skills that align to the skill needs of industries in the State or regional economy for careers in STEM fields.

Proposed Priority 3—Promoting Computer Science Education

Background: We propose an additional priority that aligns with Priority 6 in the Supplemental Priorities but focuses on projects that address computer science (as defined in this document), specifically. The proposed priority also aligns with the Presidential Memorandum for the Secretary of Education ² on Increasing Access to High-Quality Science, Technology, Engineering, and Mathematics (STEM) Education that directs the Department of Education to increase the focus on computer science in existing K-12 and postsecondary programs. Projects that address computer science may include those that focus on cybersecurity-related education, training, and apprenticeship programs, consistent with Executive Order 13800 on Strengthening the Cybersecurity of Federal Networks and Critical Infrastructure, as well as coding and data science. According to Code.org, only 45 percent of high schools teach computer science. Further, students in rural communities and in schools with higher percentages of students from low-income families are less likely to have access to computer science education.³ Proposed Priority 3 is designed to support projects that prepare students for, and promote access to, employment opportunities in computer science.

² Trump, Donald, J., Increasing Access to High-Quality Science, Technology, Engineering, and Mathematics (STEM) Education. Presidential Memorandum for the Secretary of Education, 82 FR 45417 (September 28, 2017).

³ Code.org. 2019 State of Computer Science Education. (2019).

Proposed Priority: Projects designed to improve student achievement or other education outcomes in computer science, as defined in this document. These projects must address one or more of the following priority areas:

(a) Increasing access to computer science coursework, and hands-on computer science learning opportunities, such as through expanded course offerings, dual-enrollment, high-quality online coursework, or other innovative delivery mechanisms.

(b) Creating or expanding partnerships between schools, LEAs, SEAs, businesses, not-for-profit organizations, or IHEs to give students access to computer science internships, apprenticeships, or other work-based learning experiences in computer science fields.

(c) Supporting programs that lead to recognized postsecondary credentials (as defined in section 3 of WIOA (29 U.S.C. 3102)) in computer science or skills that align with the skill needs of industries in the State or regional economy for careers in computer science.

Proposed Priority 4—Serving Students From Low-Income Families

Background: Section 114(e)(4) of Perkins V instructs the Secretary to give priority to Perkins I and M projects that will predominantly serve students from low-income families. To encourage and support efforts to increase the number of innovative and high-quality CTE programs available to students from low-income families, particularly in the Nation's high-poverty areas, we propose to implement this statutory priority by requiring an applicant to describe its plan to serve students from low-income families and demonstrate that a specific minimum percentage of students to be served by the project will be students from low-income families over the course of the grant project period.

Under the proposed priority, an applicant would describe its plan to predominantly serve students from low-income families. The plan would include the specific activities, a proposed timeline, and a rationale for how the proposed activities will result in projects in which the students to be served are predominantly students from low-income families, and would name the parties responsible for implementation of the proposed activities. Additionally, applicants would provide data to demonstrate that at least 51 percent of the students that will be served by the project would be from low-income families, based on where the students reside. We propose the following data sources that applicants would use to demonstrate that the proposed student population is predominantly from low-income families: Children aged five through 17 in poverty counted in the most recent census data approved by the Secretary; students eligible for a free or reduced-price lunch under the Richard B. Russell National School Lunch Act (42 U.S.C. 1751 et seq.); students who are Federal Pell Grant recipients; or a composite of such indicators. We invite public comment on whether these sources are the most appropriate.

Proposed Priority: To meet this priority, applicants must submit a plan demonstrating that the project will serve students who are predominantly from low-income families.

The plan must include—

(a) The specific activities that the applicant proposes;

(b) The timeline for implementing the activities;

(c) Names of the parties responsible for implementing the activities; and

(d) Evidence that at least 51 percent of the students to be served by the project are from low-income families, including—

(1) A description of the key data sources and measures for such evidence; and

(2) The most recent data demonstrating that the students to be served by the project are from low-income families.

When demonstrating that the project is designed to predominantly serve students from low-income families, the applicant must use one or more of the following data sources and measures: (1) Children aged 5 through 17 in poverty counted in the most recent census data approved by the Secretary; ⁴ (2) students eligible for a free or reduced-price lunch under the Richard B. Russell National School Lunch Act (42 U.S.C. 1751 et seq.); (3) students who are Federal Pell Grant recipients; or (4) a composite of such indicators.

⁴ The U.S. Census Bureau LEA poverty estimates are available at: www.census.gov/data/datasets/2017/demo/saipe/2017-school-districts.html.

Proposed Priority 5—Serving Middle School, High School, and Postsecondary Students

Background: This proposed priority is for applicants serving students enrolled at particular levels of schooling and is intended to support efforts to increase the number of programs that offer innovative and high-quality CTE to such students. We propose three subparts to this priority, each of which would require that a project serve students who are enrolled in a particular education level—middle school, high school, or postsecondary school—over the course of the grant project period. The Secretary could choose one or more of the subparts of this priority in a given competition based on an assessment of the field. For example, for a particular competition, the Secretary might give priority to applications from projects that propose to serve students in the middle grades (any of grades 5 through 8). Alternatively, the Secretary might invite applications from projects that focus at the postsecondary level or give priority to projects that are designed to serve students in all three education levels.

Proposed Priority: To meet this priority, applicants must propose a project to serve one or more of the following:

(a) Students enrolled in the middle grades (any of grades 5 through 8) in a local educational agency or education service agency eligible to receive funds under section 131 of the Act.

(b) Students enrolled in the high school grades (any of grades 9 through 12) in a local educational agency or education service agency eligible to receive funds under section 131 of the Act.

(c) Students enrolled in a certificate or associate degree postsecondary education program at an institution of higher education eligible to receive funds under section 132 of the Act.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirements

We are proposing the following application and program requirements. We may apply one or more of these requirements for a Perkins I and M competition in FY 2020 or in subsequent years.

Proposed Requirement 1—Demonstration of Matching Funds

Background: Section 114(e)(2)(A) of Perkins V requires each grantee to provide from non-Federal sources (e.g., State, local, or private sources), an amount equal to not less than 50 percent of the funds provided under the grant, which may be provided in cash or through in-kind contributions, to carry out activities supported by the grant. To implement this requirement and ensure an applicant has the necessary commitments for match funding prior to submitting its grant application, we propose to require each applicant to include in its grant application a budget detailing the source of the matching funds and a letter committing to the match from an individual from the entity providing the matching funds who has authority to make legally binding commitments on behalf of the entity.

Proposed Requirement: Each applicant must demonstrate in its application that it will provide from non-Federal sources (e.g., State, local, or private sources), an amount equal to not less than 50 percent of funds provided under the grant, which may be provided in cash or through in-kind contributions, to carry out activities supported by the grant. The evidence must include a budget detailing the source of the matching funds, whether the funds will be provided in cash or through in-kind contributions, and a letter committing to the match from an individual who has authority to make legally binding commitments on behalf of the entity that is providing the matching funds.

Proposed Requirement 2—Description of Allowable Activities

Background: Section 114(e)(7) of Perkins V requires each grantee to use Federal grant funds “to create, develop, implement, replicate, or take to scale evidence-based, field-initiated innovations to modernize and improve effectiveness and alignment of career and technical education and to improve student outcomes in career and technical education, and rigorously evaluate such innovations” by carrying out one or more of the activities listed in that section. To implement this requirement, we propose to require each applicant to identify in its grant application which activities it proposes to carry out with grant funds during the project period.

Proposed Requirement: Each applicant must describe how it will use Perkins I and M Grant Program funds and also must identify one or more of the activities described in section 114(e)(7) of Perkins V that it proposes to implement with Perkins I and M grant funds.

Proposed Requirement 3—Rural Communities

Background: Section 114(e)(5) of Perkins V requires the Department to award no less than 25 percent of Perkins I and M funds to eligible entities, eligible institutions, and eligible recipients (as defined in sections 3(19), (20), and (21) of Perkins V) proposing to fund CTE activities that serve rural communities. In order to implement this requirement, the Department proposes to require applicants proposing to fund CTE activities that serve rural communities to demonstrate, in a clear and consistent manner, that the proposed project will serve students in rural communities. Accordingly, the Department proposes that an applicant identify, by name and locale code, the rural LEA(s) that it proposes to serve.

Proposed Requirement: Each applicant proposing to serve students in rural communities must identify, both by name and National Center for Education Statistics (NCES) LEA locale code, the rural LEA(s) that it proposes to serve in its grant application. Applicants may retrieve locale codes from the NCES School District search tool (nces.ed.gov/ccd/districtsearch/), where districts can be looked up individually to retrieve locale codes.

Proposed Definition

Background: As in the 2019 NIA, we expect that most of the definitions that will be used in future competitions will be statutory or from the Education Department General Administrative Regulations (EDGAR). We propose to establish the definition for one term, “computer science,” that is neither defined in the program statute or applicable regulations, but was used in the 2019 NIA. We propose this definition to ensure that this term has a clear and commonly understood meaning. This is the same definition for “computer science” in the Supplemental Priorities.

Proposed Definition

We propose the following definition for this program. We may apply this definition in any year in which this program is in effect.

Computer science means the study of computers and algorithmic processes and includes the study of computing principles and theories, computational thinking, computer hardware, software design, coding, analytics, and computer applications.

Computer science often includes computer programming or coding as a tool to create software, including applications, games, websites, and tools to manage or manipulate data; or development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets, or presentation software; or using computers in the study and exploration of unrelated subjects.

Proposed Selection Criteria

Background: We propose the following selection criteria for evaluating an application under this program. We may apply one or more of these criteria in any year in which this program is in effect. The proposed selection criteria could be used in combination with any of the selection criteria in 34 CFR 75.210 or criteria based on the statutory requirements for the Perkins I and M Grant Program in accordance with 34 CFR 75.209.

The proposed selection criteria are consistent with the purposes of the Act and its statutory requirements. We believe these criteria would be valuable tools for peer reviewers to evaluate the quality of applications and how well an applicant's proposed project aligns with the purposes of the Perkins I and M Grant Program.

Proposed selection criterion (a) “Significance” would focus on the contribution that the proposed project would make in testing new CTE practices and strategies to support positive student outcomes. This proposed criterion aligns with section 114(e)(1) of Perkins V, the statutory purpose of the Perkins I and M Grant Program, which includes identifying and supporting innovative strategies and activities to improve and modernize CTE and ensuring that workforce skills taught in CTE programs align with labor market needs. Proposed selection criterion (a) “Significance” would encourage applicants to discuss their project plans and articulate how the project will meet this goal.

Proposed selection criterion (b) “Quality of the Project Design” would focus on the applicant's plan for implementing activities and the scope of the project. This criterion would enable reviewers to assess the strength of an applicant's plans and the extent to which the project addresses the competition's priorities. Under this selection criterion, an applicant would describe its explicit plans or proposed actions to implement its project and logic model.

Proposed selection criterion (c) “Quality of the Management Plan” would focus on how the project will be implemented and managed, including key objectives and responsibilities of project staff. Under this selection criterion, applicants would discuss commitment and resources from partners, including employers, the project's staffing plan, and the qualifications of key personnel.

Proposed selection criterion (d) “Quality of the Project Evaluation” would focus on another key statutory purpose of the Perkins I and M Grant Program from section 114(e)(1) of Perkins V to rigorously evaluate the evidence-based innovative strategies and activities that grantees are using to modernize and improve CTE programs. Additionally, under section 114(e)(8) of Perkins V, grantees are required to provide for an independent evaluation of the grant activities. This criterion would require applicants to discuss their evaluation plans and demonstrate the extent to which the plans are well-developed with key questions, and descriptions of the analytical approaches planned, with qualitative and quantitative methods and an explanation of intended project outcomes.

Proposed selection criterion (e) “Support for Students from Rural Communities” would apply to applicants that propose to improve education and employment outcomes for students from rural communities. Under this proposed selection criterion, the Department would consider the degree to which an applicant has demonstrated a plan to improve the education and employment outcomes of students from rural communities.

Proposed Selection Criteria

(a) Significance

In determining the significance of the proposed project, the Secretary considers one or more of the following factors:

(1) The extent to which the proposed project addresses a regional or local need that was identified in a comprehensive local needs assessment carried out under section 134(c) of Perkins V by a Perkins-eligible recipient.

(2) The extent to which the proposed project would implement a new and innovative approach to delivering CTE (as defined in section 3(5) of Perkins V) as compared with strategies previously implemented by the applicant.

(3) The extent of the expected impact of the project on relevant outcomes (as defined in 34 CFR 77.1), including the estimated impact of the project on student outcomes and the breadth of the project's impact, compared with alternative practices or methods of addressing similar needs.

(4) The extent to which the proposed project demonstrates that the project will serve students who are predominantly from low-income families.

(b) Quality of the Project Design

In determining the quality of the project design, the Secretary considers one or more of the following factors:

(1) The extent to which the proposed project has a clear set of goals and an explicit plan of action to achieve those goals.

(2) The extent to which the project goals are clear, complete, and coherent, and the extent to which the project activities constitute a complete plan aligned to those goals, including the identification of potential risks to project success and strategies to mitigate those risks.

(3) The extent to which the applicant will use grant funds to address a particular barrier or barriers that prevented the applicant, in the past, from implementing a similar project or strategy.

(c) Quality of the Management Plan

In determining the quality of the management plan, the Secretary considers one or more of the following factors:

(1) The extent to which the management plan articulates key responsibilities for each party involved in the project and also articulates well-defined objectives, including the timelines and milestones for completion of major project activities, the metrics that will be used to assess progress on an ongoing basis, and annual performance targets the applicant will use to monitor whether the project is achieving its goals.

(2) The extent of the demonstrated commitment of any partners whose participation is critical to the project's long-term success, including the extent of any evidence of support from, or specific resources from, employers and other stakeholders.

(3) The adequacy of the project's staffing plan, particularly for the first year of the project, including the identification of the project director and, in the case of projects with unfilled key personnel positions at the beginning of the project, a description of how critical work will proceed.

(4) The extent to which the project director has experience managing projects similar in scope to that of the proposed project.

(d) Quality of the Independent Evaluation

In determining the quality of the project's independent evaluation, the Secretary considers one or more of the following factors:

(1) The clarity and importance of the key questions to be addressed by the project's independent evaluation, and the appropriateness of the methods for how each question will be addressed.

(2) The extent to which the methods of evaluation will provide performance feedback and permit at least annual, periodic assessment of progress toward achieving intended outcomes.

(3) The extent to which the independent evaluation plan includes a clear and credible analysis plan and an analytical approach for addressing the research questions.

(4) The extent to which the independent evaluation plan includes a clear, well-documented, and rigorous method for measuring implementation of the critical features of the project, as well as the intended outcomes.

(5) The extent to which the evaluation plan clearly articulates the key components and outcomes of the project, as well as a measurable threshold for acceptable implementation.

(e) Support for Rural Communities

In determining the extent of the support for rural communities, the Secretary considers one or more of the following factors:

(1) The extent to which the applicant presents a clear, well-documented plan for primarily serving students from rural communities.

(2) The extent to which the applicant proposes a project that will improve the education and employment outcomes of students in rural communities.

Final Priorities, Requirements, Definition, and Selection Criteria

We will announce the final priorities, requirements, definition, and selection criteria in the Federal Register. We will determine the final priorities, requirements, definition, and selection criteria after considering responses to the proposed priorities, requirements, definition, and selection criteria and other information available to the Department. This document does not preclude us from proposing additional priorities, requirements, definitions, or selection criteria, subject to meeting applicable rulemaking requirements.

Note: This document does not solicit applications. In any year in which we choose to use any of these proposed priorities, requirements, definition, or selection criteria, we invite applications through a notice in the Federal Register.

Executive Orders 12866, 13563, and 13771

Regulatory Impact Analysis

Under Executive Order 12866, it must be determined whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs, or the rights and obligations of recipients thereof; or

(4) Raise novel legal or policy issues arising out of legal mandates, the President's priorities, or the principles stated in the Executive order.

This proposed regulatory action is not a significant regulatory action subject to review by OMB under section 3(f) of Executive Order 12866.

Under Executive Order 13771, for each new rule that the Department proposes for notice and comment or otherwise promulgates that is a significant regulatory action under Executive Order 12866, and that imposes total costs greater than zero, it must identify two deregulatory actions. For FY 2020, any new incremental costs associated with a new regulation must be fully offset by the elimination of existing costs through deregulatory actions. Because the proposed regulatory action is not significant, the requirements of Executive Order 13771 do not apply.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities, requirements, definition, and selection criteria only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

Summary of Costs and Benefits: The Department believes that the proposed priorities, requirements, definition, and selection criteria would not impose significant costs on applicants applying for assistance under section 114 of Perkins V. We also believe that the benefits of implementing the proposed priorities, requirements, definition, and selection criteria justify any associated costs.

The Department believes that the proposed priorities, requirements, definition, and selection criteria would help to ensure that: Grants provided under section 114(e) of Perkins V are awarded only for allowable, reasonable, and necessary costs; and eligible applicants consider carefully in preparing their applications how the grants may be used to improve CTE programs and the outcomes of the students who enroll in them. The program requirements and related definitions are necessary to ensure that taxpayer funds are expended appropriately.

The Department further believes that the costs imposed on an applicant by the proposed priorities, requirements, definition, and selection criteria would be largely limited to the paperwork burden related to preparing the application and that the benefits of preparing an application and receiving an award would justify any costs incurred by the applicant. The costs of these proposed priorities, requirements, definition, and selection criteria would not be a significant burden for any eligible applicant.

Paperwork Reduction Act of 1995

The proposed priorities, requirements, definition, and selection criteria contain information collection requirements that are approved by OMB under OMB control number 1894-0006; the proposed priorities, requirements, definition, and selection criteria do not affect the currently approved data collection.

Clarity of the Regulations

Executive Order 12866 and the Presidential memorandum “Plain Language in Government Writing” require each agency to write regulations that are easy to understand.

The Secretary invites comments on how to make the proposed priorities, requirements, definition, and selection criteria easier to understand, including answers to questions such as the following:

• Are the requirements in the proposed regulations clearly stated?

• Do the proposed regulations contain technical terms or other wording that interferes with their clarity?

• Does the format of the proposed regulations (grouping and order of sections, use of headings, paragraphing, etc.) aid or reduce their clarity?

• Would the proposed regulations be easier to understand if we divided them into more (but shorter) sections?

• Could the description of the proposed regulations in the SUPPLEMENTARY INFORMATION section of this preamble be more helpful in making the proposed regulations easier to understand? If so, how?

• What else could we do to make the proposed regulations easier to understand?

Regulatory Flexibility Act Certification: The Secretary certifies that this proposed regulatory action would not have a significant economic impact on a substantial number of small entities. The U.S. Small Business Administration (SBA) Size Standards define “small entities” as for-profit or nonprofit institutions with total annual revenue below $7,000,000 or, if they are institutions controlled by small governmental jurisdictions (that are comprised of cities, counties, towns, townships, villages, school districts, or special districts), with a population of less than 50,000.

The small entities that this proposed regulatory action would affect are school districts and institutions of higher education. We believe that the costs imposed on an applicant by the proposed priorities, requirements, definition, and selection criteria would be limited to paperwork burden related to preparing an application and that the benefits of the proposed priorities, requirements, definition, and selection criteria would outweigh any costs incurred by the applicant.

Participation in the I and M Grants Program is voluntary. For this reason, the proposed priorities, requirements, definition, and selection criteria would impose no burden on small entities unless they applied for funding under the program. We expect that in determining whether to apply for program funds, an eligible entity would evaluate the requirements of preparing an application and any associated costs, and weigh them against the benefits likely to be achieved by receiving a program grant. An eligible entity would probably apply only if it determines that the likely benefits exceed the costs of preparing an application.

We believe that the proposed priorities, requirements, definition, and selection criteria would not impose any additional burden on a small entity applying for a grant than the entity would face in the absence of the proposed action. That is, the length of the applications those entities would submit in the absence of the proposed regulatory action and the time needed to prepare an application would likely be the same.

This proposed regulatory action would not have a significant economic impact on a small entity once it receives a grant because it would be able to meet the costs of compliance using the funds provided under this program. We invite comments from eligible small entities as to whether they believe this proposed regulatory action would have a significant economic impact on them and, if so, request evidence to support that belief.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Scott Stump,
Assistant Secretary for Career, Technical, and Adult Education.

[FR Doc. 2020-18304 Filed 9-23-20; 8:45 am]

BILLING CODE 4000-01-P